DEPARTMENT OF DEFENSE

Office of the Secretary

[Transmittal No. 25-47]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-47, Policy Justification, and Sensitivity of Technology.

Dated: January 16, 2026.
Stephanie J. Bost,
Alternate OSD Federal Register Liaison Officer, Department of Defense.

BILLING CODE 6001-FR-P

BILLING CODE 6001-FR-C

Transmittal No. 25-47

Notice of Proposed Issuance of Letter of Offer Pursuant to Section 36(b)(1) of the Arms Export Control Act, as amended

(i) Prospective Purchaser: Government of Bahrain

(ii) Total Estimated Value:

Major Defense Equipment * | $400 million
Other | $100 million
TOTAL | $500 million

Funding Source: National Funds

(iii) Description and Quantity or Quantities of Articles or Services under Consideration for Purchase:

Major Defense Equipment (MDE):

Four (4) M142 High Mobility Artillery Rocket Systems (HIMARS)

Three (3) International Field Artillery Tactical Data System

Non-Major Defense Equipment:

The following non-MDE items will also be included: M28A2 Low Cost Reduced Range Practice Rocket Pods; High Mobility Multi-Purpose Wheeled Vehicle Fire Direction Centers; M1084A3 HIMARS resupply vehicles; HIMARS Driver Vision Enhancer systems; AN/PSN-13 Defense Advanced GPS Receiver; support and test equipment; simulators; generators; integration and test support; spares and repair parts; communications equipment; software delivery and support; facilities and construction support; publications and technical documentation; personnel training and training equipment; support equipment; United States (U.S.) Government and contractor engineering, technical, and logistics support services; studies and surveys; and other related elements of logistics and program support.

(iv) Military Department: Army (BA-B-ULR)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: August 14, 2025

* as defined in Section 47(6) of the Arms Export Control Act.

POLICY JUSTIFICATION

Bahrain—M142 High Mobility Artillery Rocket System

The Government of Bahrain has requested to buy four (4) M142 High Mobility Artillery Rocket Systems (HIMARS); and three (3) International Field Artillery Tactical Data Systems. The following non-MDE items will also be included: M28A2 Low Cost Reduced Range Practice Rocket Pods; High Mobility Multi-Purpose Wheeled Vehicle Fire Direction Centers; M1084A3 HIMARS resupply vehicles; HIMARS Driver Vision Enhancer systems; AN/PSN-13 Defense Advanced GPS Receiver; support and test equipment; simulators; generators; integration and test support; spares and repair parts; communications equipment; software delivery and support; facilities and construction support; publications and technical documentation; personnel training and training equipment; support equipment; U.S. Government and contractor engineering, technical, and logistics support services; studies and surveys; and other related elements of logistics and program support. The estimated total cost is $500 million.

This proposed sale will support the foreign policy and national security objectives of the U.S. by improving the security of a major non-NATO ally that is an important force for political stability and economic progress in the Middle East.

The proposed sale will improve Bahrain's capability to meet current and future threats by enhancing its ability to provide critical support for the security of U.S. installations and personnel in Bahrain, integrate into U.S.‐led coalitions, and to operate independently in support of U.S. interests and the security of U.S. forces in-theater. Bahrain will have no difficulty absorbing these articles into its armed forces.

The proposed sale of this equipment and support will not alter the basic military balance in the region.

The principal contractor will be Lockheed Martin, located in Grand Prairie, TX. At this time, the U.S. Government is not aware of any offset agreement proposed in connection with this potential sale. Any offset agreement will be defined in negotiations between the purchaser and the contractor.

Implementation of this proposed sale will require the assignment of five additional U.S. Government and ten U.S. contractor representatives for a duration of four months to support equipment set up and provide operator and maintenance training.

There will be no adverse impact on U.S. defense readiness as a result of this proposed sale.

Transmittal No. 25-47

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton family of medium tactical vehicles truck chassis. HIMARS is the modern Army-fielded version of the Multiple Launch Rocket System (MLRS) M270 launcher and can fire all the MLRS family of munitions (FOM), including Guided Multiple Launch Rocket System (GMLRS) variants and the Army Tactical Missile System (ATACMS). Utilizing the MLRS FOM, the HIMARS can engage targets between 15 and 300 kilometers with global positioning system (GPS) aided precision accuracy.

2. The International Field Artillery Tactical Data System (IFATDS) is an exportable version of the Army's Advanced Field Artillery Tactical Data System (AFATDS). IFATDS is a software suite that can be installed on a standard laptop computer using a Windows operating system. IFATDS software provides a fully automated system to help commanders plan, coordinate, control and execute fires. The system is used for field artillery, mortars, rockets, and close air support.

3. The Driver Vision Enhancer system, or an AN/VAS-5B variant, provides the driver the ability to see while maneuvering the vehicle in low visibility environments during night operations or caused by visual obscurants such as smoke, dust, and fog. The system includes an uncooled infrared imaging sensor external to the vehicle connected by cable to the internal vehicle operator's touch screen display. During periods of low visibility, the driver engages the system by viewing the driving path displayed on the touch screen as seen through the infrared imaging sensor.

4. AN/PSN-13 Defense Advanced GPS Receiver (DAGR) is a handheld GPS receiver used by the U.S. Army and select foreign military services. DAGR is a military-grade, dual-frequency receiver, and has the security hardware necessary to decode precision encrypted (P(Y) code GPS band signals.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Bahrain can provide substantially the same degree of protection for the sensitive technology being released as the U.S. Government. This proposed sale is necessary in furtherance of the U.S. foreign policy and national security objectives outlined in the Policy Justification.

8. All defense articles and services listed in this transmittal have been authorized for release and export to the Government of Bahrain.

[FR Doc. 2026-01128 Filed 1-21-26; 8:45 am]

BILLING CODE 6001-FR-P